NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: October 29, 2001 8:30 am-5:15 pm (EDT) and October 30, 2001 8:30 am-2 pm (EDT).

Place: National Science Foundation, 4201 Wilson Boulevard, Room 110, Arlington, VA.

Type of Meeting: Open.

Contact Person: Mary Ann Birchett, National Science Foundation, 4201 Wilson Boulevard, Arlington, VA 22230 (703) 292-8200.

Purpose of Meeting: To provide advice concerning issues related to the oversight, development, and enhancement of NSF's business operations.

Agenda

October 29, 2001

• Update of Recent Activities

• Follow-up of Discussion Items from Spring Meeting

• Presentation of the President's Management Agenda

• Grants Risk Management and Risk Management

• CFO and CIO Audit Results

• Large Facilities Management

• Granting Agency of the Future Research Update

October 30, 2001

• Budget and Performance Measures

• Workplace of the Future

• Public Law 106-107

• Security

• Plans for Spring 2002 Meeting

• Other Business

Dated: October 9, 2001.
Susanne Bolton,
Committee Management Officer.

[FR Doc. 01-25766 Filed 10-12-01; 8:45 am]

BILLING CODe 7555-01-M